DEPARTMENT OF DEFENSE

Defense Logistics Agency

Privacy Act of 1974; Systems of Records

AGENCY: Defense Logistics Agency, DOD.

ACTION: Notice to add a system of records.

SUMMARY: The Defense Logistics Agency proposes to add an exempt system of records notice in its inventory of record systems subject to the Privacy Act of 1974 (5 U.S.C. 552a), as amended.

The exemption is required for S500.30 CAAS, entitled “DLA Incident Investigation/Police Inquiry Files” to protect from release investigatory material compiled for law enforcement purposes, and investigatory material compiled solely for the purpose of determining suitability, eligibility, or qualifications for federal civilian employment, military service, federal contracts, or access to classified information

DATES: This action will be effective without further notice on February 22, 2000, unless comments are received that would result in a contrary determination.

ADDRESSES: Send comments to the Privacy Act Officer, Headquarters, Defense Logistics Agency, ATTN: CAAR, 8725 John J. Kingman Road, Suite 2533, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on January 5, 2000, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 13, 2000.
L.M. Bynum,
Alternate OSD Federal Register Liaison Officer, Department of Defense.

S500.30 CAAS

SYSTEM NAME:

Incident Investigation/Police Inquiry Files.

SYSTEM LOCATION:

Office of the Staff Director, Command Security, Headquarters, Defense Logistics Agency, ATTN: CAAS, 8725 John J. Kingman Road, Suite 2533, Fort Belvoir, VA 22060-6221, and the Security Offices of the Defense Logistics Agency Primary Level Field Activities (DLA PLFAs). Official mailing addresses are published as an appendix to DLA's compilation of systems of records notices.

CATEGORIES OF INDIVIDUALS COVERED BY THE SYSTEM:

Individuals who have been the subject of a non-criminal investigation or police inquiry into incidents occurring on DLA-controlled facilities or installations. The system also covers incidents at other locations that involve individuals assigned to or employed by DLA or employed by agencies that receive security and police force services from DLA.

CATEGORIES OF RECORDS IN THE SYSTEM:

Records contain case number, name of subject, Social Security Number, address, telephone number, and details of the incident or inquiry; the investigative report containing details of the investigation, relevant facts discovered, information received from sources and witnesses, the investigator's findings, conclusions, and recommendations; and case disposition details.

AUTHORITY FOR MAINTENANCE OF THE SYSTEM:

5 U.S.C. 301, Departmental Regulations; 5 U.S.C. 303(b), Oath to Witnesses; 10 U.S.C. 133, Under Secretary of Defense for Acquisition and Technology; and E.O. 9397 (SSN).

PURPOSE(S):

To record information related to investigations of or inquiries into incidents under DLA jurisdiction.

The records are also used to make decisions with respect to disciplinary action; to bar individuals from entry to DLA facilities or installations; to evaluate the adequacy of existing physical security safeguards; and to perform similar functions with respect to maintaining a secure workplace.

Statistical data, with all personal data removed, may be provided to other offices for purposes or reporting, planning, training, vulnerability assessment, awareness, and similar administration endeavors. Complaints appearing to involve criminal wrongdoing are referred to the appropriate criminal investigative organization for investigation and disposition.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To Federal, state, and local agencies that administer programs or employ individuals involved in an incident or inquiry.

The “Blanket Routine Uses” set forth at the beginning of DLA's compilation of systems of records notices apply to this system.

POLICIES AND PRACTICES FOR STORING, RETRIEVING, ACCESSING, RETAINING, AND DISPOSING OF RECORDS IN THE SYSTEM:

STORAGE:

Records are maintained in a combination of paper and automated form.

RETRIEVABILITY:

Record are retrieved by name of subject, subject matter, and by case number.

SAFEGUARDS:

Records are maintained in areas assessable only to DLA personnel who must access the records to perform their duties. The computer files are protected with access restricted to authorized users.

RETENTION AND DISPOSAL:

Records are destroyed 5 years after date of last action; incidents involving terrorist threats are destroyed 7 years after the incident is closed.

SYSTEM MANAGER(S) AND ADDRESS:

Staff Director, Command Security, Headquarters, Defense Logistics Agency, ATTN: CAAS, 8725 John J. Kingman Road, Suite 2533, Fort Belvoir, VA 22060-6221.

NOTIFICATION PROCEDURES:

Individuals seeking to determine whether this system of records contains information about themselves should address written inquiries to the Privacy Act Officer, Defense Logistics Agency, ATTN: CAAR, 8725 John J. Kingman Road, Suite 2533, Fort Belvoir, VA 22060-6221.

Individuals are required to provide name, Social Security Number, employing activity name and address, and, if known, place of investigation. In addition, individuals must provide either a notarized signature or a signed and dated unsworn declaration (in accordance with 28 U.S.C. 1746) stating under penalty of perjury under U.S. law that the information contained in the request, including their identity, is true and correct.

RECORD ACCESS PROCEDURES:

Individuals seeking access to records about themselves contained in this system of records should address written inquiries the Privacy Act Officer, Defense Logistics Agency, ATTN: CAAR, 8725 John J. Kingman Road, Suite 2533, Fort Belvoir, VA 22060-6221.

Individuals are required to provide name, Social Security Number, employing activity name and address, and, if known, place of investigation. In addition, individuals must provide either a notarized signature or a signed and dated unsworn declaration (in accordance with 28 U.S.C. 1746) stating under penalty of perjury that the information contained in the request for access, including their identity, is true and correct.

CONTESTING RECORD PROCEDURES:

The DLA rules for accessing records, for contesting contents and appealing initial agency determinations are contained in DLA Regulation 5400.21,32 CFR part 323, or may be obtained from the Privacy Act Officer, Headquarters, Defense Logistics Agency, ATTN: CAAR, 8725 John J. Kingman Road, Suite 2533, Fort Belvoir, VA 22060-6221.

RECORD SOURCE CATEGORIES:

Information is provided by the record subject, victims, witnesses, and investigators.

EXEMPTION CLAIMED FOR THE SYSTEM:

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Investigatory material compiled solely for the purpose of determining suitability, eligibility or qualifications for federal civilian employment, military service, federal contracts, or access to classified information may be exempt pursuant to 5 U.S.C. 552a(k)(5), but only to the extent that such material would reveal the identity of a confidential source.

An exemption rule for this exemption has been promulgated in accordance with requirements of 5 U.S.C. 533(b)(1), (2), and (3), (c) and (e) and published in 32 CFR part 323. For additional information contact the Privacy Act Officer, DLA, ATTN: CAAR, 8725 John J. Kingman Road, Suite 2533, Fort Belvoir, VA 22060-6221.

[FR Doc. 1313 Filed 1-19-00; 8:45 am]

BILLING CODE 5001-10-M